DEPARTMENT OF TRANSPORTATION

Federal Aviation Administration

14 CFR Part 71

[Docket No. FAA-2001-10432; Airspace Docket No. 01-AWA-05]

RIN 2120-AA66

Modification of the Santa Ana Class C Airspace Area; CA

AGENCY: Federal Aviation Administration (FAA), DOT.

ACTION: Final rule.

SUMMARY: This action modifies the Santa Ana, CA, Class C airspace area. Specifically, this rule standardizes and completes the 5 nautical mile (NM) inner circle; re-aligns the south and southwest quadrants; and expands the north and east boundaries of the Santa Ana Class C airspace area. The FAA is taking this action to improve the management of aircraft operations in the Santa Ana, CA, terminal area; enhance safety; reduce the potential for midair collision in the Santa Ana Class C airspace area; and accommodate the concerns of airspace users.

EFFECTIVE DATE: 0901 UTC, July 11, 2002.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

Background

In early 2001, the Southern California TRACON (SCT), and a California Users Group (an ad hoc committee that represents all major airspace users) reviewed the current Santa Ana Class C airspace area. The revocation of the El Toro Class C airspace area, which left the eastern side of the John Wayne Airport in Class E airspace instead of Class C airspace, prompted the review. The Technical Committee of the Southern California Users Group (SCAUWG) reviewed the Santa Ana Class C airspace area and developed recommendations for modifying the existing airspace design to provide pilots with a greater awareness of arriving and departing turbojet aircraft at John Wayne Airport, Santa Ana, CA.

As announced in the Federal Register (66 FR 13122, March 2, 2001), one pre-NPRM airspace meeting was held on March 28, 2001, at Los Alamitos Army Airfield, Los Alamitos, CA. The purpose of this meeting was to provide local airspace users with an opportunity to present input on planned airspace changes to the Santa Ana Airspace Area prior to initiating any regulatory action.

In response to the informal airspace meeting the FAA received six comments. Those comments were addressed in the NPRM.

On January 22, 2002, the FAA published, in the Federal Register, a notice of proposed rulemaking (NPRM) for this airspace (66 FR 2832). Interested parties were invited to participate in this rulemaking effort by submitting written communication on the proposal. The comment period for this action closed on March 8, 2002 and no comments were received.

The Rule

This action amends 14 Code of Federal Regulations (CFR) part 71 by modifying the Santa Ana, CA, Class C airspace area. Specifically, this action expands Area A to a complete 5 NM circle, which standardizes the inner circle. Area B to the south, and Area C to the southwest are re-aligned to provide additional airspace to accommodate Runway 1 arrivals. Changes to Area F in the north re-aligns the northern and eastern boundaries to improve the efficiency of Runway 19 arrivals. In addition, a new Area G is established to the east to accommodate instrument operations in an area formally within the revoked El Toro Class C airspace area. The FAA is taking this action to improve the management of aircraft operations in the Santa Ana, CA, terminal area; enhance safety; reduce the potential for midair collision in the Santa Ana Class C airspace area; and accommodate the concerns of airspace users.

The FAA has determined that this regulation only involves an established body of technical regulations for which frequent and routine amendments are necessary to keep them operationally current. Therefore, this action: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

The coordinates for this airspace docket are based on North American Datum 83. Class C airspace designations are published in paragraph 4000 of FAA Order 7400.9J, dated August 31, 2001, and effective September 16, 2001, which is incorporated by reference in 14 CFR 71.1. The Class C airspace designation listed in this document will be published subsequently in the order.

Initial Regulatory Flexibility Determination

The Regulatory Flexibility Act of 1980 (RFA) establishes “as a principle of regulatory issuance that agencies shall endeavor, consistent with the objective of the rule and of applicable statutes, to fit regulatory and informational requirements to the scale of the business, organizations, and governmental jurisdictions subject to regulation.” To achieve that principle, the Act requires agencies to solicit and consider flexible regulatory proposals and to explain the rationale for their actions. The Act covers a wide-range of small entities, including small businesses, not-for-profit organizations, and small governmental jurisdictions.

Agencies must perform a review to determine whether a proposed or final rule will have a significant economic impact on a substantial number of small entities. If the determination is that it will, the agency must prepare a regulatory flexibility analysis as described in the Act.

However, if an agency determines that a proposed or final rule is not expected to have a significant economic impact on a substantial number of small entities, section 605(b) of the 1980 act provides that the head of the agency may so certify and a regulatory flexibility analysis is not required. The certification must include a statement providing the factual basis for this determination, and the reasoning should be clear.

In view of the minimal cost impact of the rule, the FAA has determined that this final rule will not have a significant economic impact on a substantial number of small entities. Consequently, the FAA certifies that the rule will not have a significant economic impact on a substantial number of small entities.

International Trade Impact Analysis

The Trade Agreement Act of 1979 prohibits Federal agencies from engaging in any standards or related activities that create unnecessary obstacles to the foreign commerce of the United States. Legitimate domestic objectives, such as safety, are not considered unnecessary obstacles. The statute also requires consideration of international standards and where appropriate, that they be the basis for U.S. standards.

In accordance with the above statute, the FAA has assessed the potential effect of this proposed rule and has determined that it would have only a domestic impact and therefore create no obstacles to the foreign commerce of the United States.

Unfunded Mandates Assessment

Title II of the Unfunded Mandates Reform Act of 1995 (the Act), enacted as Public Law 0104-4 on March 22, 1995, requires each Federal agency, to the extent permitted by law, to prepare a written assessment of the effects of any Federal mandate in a proposed or final agency rule that may result in the expenditure of $100 million or more (when adjusted annually for inflation) in any one year by State, local, and tribal governments in the aggregate, or by the private sector. Section 204(a) of the Act, 2 U.S.C. 1534(a), requires the Federal agency to develop an effective process to permit timely input by elected officers (or their designees) of State, local, and tribal governments on a proposed “significant intergovernmental mandate.” A “significant intergovernmental mandate” under the Act is any provision in a Federal agency regulation that would impose an enforceable duty upon State, local, and tribal governments in the aggregate of $100 million (adjusted annually for inflation) in any one year. Section 203 of the Act, 2 U.S.C. 1533, which supplements section 204(a), provides that, before establishing any regulatory requirements that might significantly or uniquely affect small governments, the agency shall have developed a plan, which, among other things, must provide for notice to potentially affected small governments, if any, and for a meaningful and timely opportunity for these small governments to provide input in the development of regulatory proposals.

This rule does not contain any Federal intergovernmental or private sector mandates. Therefore, the requirements of Title II of the Unfunded Mandates Reform Act of 1995 do not apply.

List of Subjects in 14 CFR Part 71

Airspace, Incorporation by reference, Navigation (air).

The Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9J, Airspace Designations and Reporting Points, dated August 31, 2001, and effective September 16, 2001, is amended as follows:

Paragraph 4000—Subpart C—Class C Airspace

* * * * *

Santa Ana, CA [REVISED]

John Wayne Airport/Orange County, CA

(lat. 33°40′32″ N., long. 117°52′06″ W.)

That airspace extending upward from the surface to and including 4400 feet MSL within a 5-mile radius of the John Wayne Airport/Orange County (SNA); that airspace extending upward from 1500 feet MSL to and including 5400 feet MSL beginning at a point southeast of SNA where the SNA 5NM radius and the POM 185° radial intersect, then south via the POM 185° radial to the SNA 10NM radius, then clockwise via the SNA 10NM radius to the PDZ 230° radial, then north via the PDZ 230° radial to the SNA 5NM radius, the counterclockwise via the SNA 5NM radius to the point of beginning; that airspace extending upward from 3500 feet MSL to and including 5400 feet MSL beginning at a point south of the SNA where the SNA 5NM radius and the PDZ 230° radial intersect, then southwest via the PDZ 230° radial to the SNA 10NM radius, then clockwise via the SNA 10NM radius to the 251° bearing from SNA at 10NM, then north via a line extending between the SNA 251° bearing at 10NM and the SNA 351° degree bearing at 10NM to the shoreline, then via the shoreline southeast to the point of beginning; that airspace extending upward from 2500 feet MSL to and including 5400 feet MSL beginning at a point south of the SNA where the SNA 5NM radius and the PDZ 230° radial intersect then west via the shoreline to a line extending between the SNA 251° bearing at 10NM and the SNA 351° bearing at 10NM, then north via the line extending between the SNA 251° bearing at 10NM and the SNA 351° bearing at 10NM to the San Diego Freeway (I-405), then east via the San Diego Freeway (I-405) to the SNA 5NM radius, then counterclockwise via the 5NM radius to point of beginning; that airspace extended upward from 2500 feet MSL to and including 4400 feet MSL beginning west of SNA at a point where the SNA 5NM radius and the San Diego Freeway (I-405) intersect, then west via the San Diego Freeway (I-405) to a line extending between the SNA 251° bearing at 10NM and the SNA 351° bearing at 10NM, then north via the line extending between the SNA 251° bearing at 10NM and the SNA 351° bearing at 10NM, the clockwise via the SNA 10NM radius to the SNA 360° bearing, then south via the SNA 360° bearing to the SNA 5NM radius, then counterclockwise via the SNA 5NM radius to the point of beginning; that airspace extending upward from 2000 feet MSL to and including 4400 feet MSL beginning at a point where the SNA 5NM and the SNA 360° bearing intersect, then via the SNA 360° bearing to the SNA 10NM radius, then via the SNA 10NM radius clockwise to the SLI 075° radial to the LAX 098° radial, then east via the LAX 098° radial to the ELB 004° radial, then south via the ELB 004° radial to the PDZ 230° radial, then southwest via the PDZ 230° radial to the SNA 5NM radius, then counterclockwise via the SNA 5NM radius to the point of beginning; that airspace extending upward from 3500 feet MSL to and including 4400 feet MSL beginning northeast of SNA at a point where the SNA 5NM and the PDZ 230° radial intersect, then northeast via the PDZ 230° radial to the ELB 004° radial, then north via the ELB 004° radial, to the LAX 098° radial to POM 157° radial, then south via the POM 157° radial to the ELB 054° radial, then southwest via ELB 054° radial to ELB, then south via the ELB 184° radial to the SNA 10NM radius, then clockwise via the SNA 10NM radius to the POM 185° radial, then north via POM 185° radial to the SNA 5NM radius, then counterclockwise via the SNA 5NM radius to the point of beginning. This Class C airspace area is effective during the specific days and hours of operation of the Orange County Tower as established in advance by a Notice to Airman. The effective dates and times will thereafter be continuously published in the Airport/Facility directory.

* * * * *

Issued in Washington, DC, on April 2, 2002.
Reginald C. Matthews,
Manager, Airspace and Rules Division.

[FR Doc. 02-8781 Filed 4-18-02; 8:45 am]

BILLING CODE 4910-13-P